DEPARTMENT OF HEALTH AND HUMAN SERVICES

Food and Drug Administration

Peripheral and Central Nervous System Drugs Advisory Committee; Cancellation

AGENCY: Food and Drug Administration, HHS.

ACTION: Notice.

SUMMARY: The Food and Drug Administration (FDA) is cancelling the meeting of the Peripheral and Central Nervous System Drugs Advisory Committee scheduled for May 16, 2003. This meeting was announced in the Federal Register of April 14, 2003 (68 FR 17958).

FOR FURTHER INFORMATION CONTACT: Karen M. Templeton-Somers, Center for Drug Evaluation and Research (HFD-21), Food and Drug Administration, 5600 Fishers Lane (for express delivery, 5630 Fishers Lane, rm. 1093), Rockville, MD 20857, 301-827-7001, or FDA Advisory Committee Information Line, 1-800-741-8138 (301-443-0572 in the Washington, DC area) code 12543, or e-mail: SomersK@cder.fda.gov.

Dated: April 18, 2003.
Lester M. Crawford,
Deputy Commissioner.

[FR Doc. 03-10150 Filed 4-23-03; 8:45 am]

BILLING CODE 4160-01-S